ENVIRONMENTAL PROTECTION AGENCY

40 CFR Part 52

[R04-OAR-2005-SC-0001, R04-OAR-2005-GA-0001-200516; FRL-7917-9]

Approval and Promulgation of Air Quality Implementation Plans; South Carolina and Georgia; Attainment Demonstration for the Appalachian, Catawba, Pee Dee, Waccamaw, Santee Lynches, Berkeley-Charleston-Dorchester, Low Country, Lower Savannah, Central Midlands, and Upper Savannah Early Action Compact Areas

Correction

In proposed rule document 05-10475 beginning on page 30396 in the issue of Thursday, May 26, 2005, make the following correction:

On page 30404, the table is corrected in part to read as follows:

County Level Emission Reductions in South Carolina EAC Nonattainment-Deferred Areas—continued
Commitment | Implementation strategies | Emissions reduction actual or potential: NOX | Emissions reduction actual or potential: VOC | Emissions reduction actual or potential: CO
* * * * * * *
Totals from SC's Ozone Early Action Program | 6,522 Tons | 703 Tons | 36 Tons
* * * * *

[FR Doc. C5-10475 Filed 6-8-05; 8:45 am]

BILLING CODE 1505-01-D